DEPARTMENT OF HEALTH AND HUMAN SERVICES

Office of the Secretary

White House Commission on Complementary and Alternative Medicine Policy; Notice of Meeting

Pursuant to section 10(a) of the Federal Advisory Committee Act, as amended (5 U.S.C. Appendix 2), notice is given of a meeting of the White House Commission on Complementary and Alternative Medicine Policy.

The purpose of this public meeting is to convene the Commission to discuss possible Federal policy regarding complementary and alternative medicine (CAM). The main focus of the meeting is the discussion of key issues before the Commission and the development of draft recommendations that may be included in the Final Report of the White House Commission on Complementary and Alternative Medicine Policy. Major issue areas to be considered by the Commission prior to preparation of its Final Report include the following: Coordination of CAM Research; Access to and Delivery of CAM Practices and Products; Coverage and Reimbursement for CAM Practices and Products; Training and Education of Health Care Practitioners in CAM; Development and Dissemination of CAM Information for Health Care Providers and the Public; CAM in Wellness, Self-Care, Health Promotion, and Disease Prevention; Coordinating and Centralizing Private Sector and Federal Sector CAM Efforts; and the Definition of CAM and Guiding Principles for the preparation of the Final Report from the Commission. Comments received at the meeting may be used by the Commission to prepare the Report to the President as required by the Executive Order.

Opportunities for oral statements by the public will be provided on October 5, from 5 p.m.-6 p.m. (Time approximate).

Name of Committee: The White House Commission on Complementary and Alternative Medicine Policy.

Date: October 4-6, 2001.

Time: October 4—8 a.m.-6—p.m.; October 5—8 a.m.-6 p.m.; October 6—8:30 a.m.-12:30 p.m.

Place: Neuroscience Office Building, National Institutes of Health, Conference Rooms C-D, 6001 Executive Boulevard, Bethesda, MD 20892.

Contact Persons:Michele M. Chang, CMT, MPH, Executive Secretary; OR Stephen C. Groft, Pharm.D., Executive Director, 6707 Democracy Boulevard, Room 880, MSC-5467, Bethesda, MD 20892-5467, Phone: (301) 435-7592, Fax: (301) 480-1691, E-mail: WHCCAMP@mail.nih.gov.

Because of the need to obtain the views of the public on these issues as soon as possible and because of the early deadline for the report required of the Commission, this notice is being provided at the earliest possible time.

Supplementary Information: The White House Commission on Complementary and Alternative Medicine Policy was established on March 7, 2000 by Presidential Executive Order 13147. The mission of the White House Commission on Complementary and Alternative Medicine Policy is to provide a report, through the Secretary of the Department of Health and Human Services, on legislative and administrative recommendations for assuring that public policy maximizes the benefits of complementary and alternative medicine to Americans.

Public Participation

The meeting is open to the public with attendance limited to the availability of space on a first come, first served basis. Members of the public who wish to present oral comments may register by faxing a request to register at 301-480-1691 or by accessing the website of the Commission at http://whccamp.hhs.gov no later than September 27, 2001.

Oral comments will be limited to five minutes, three minutes to make a statement and two minutes to respond to questions from Commission members. Due to time constraints, only one representative from each organization will be allotted time for oral testimony. The number of speakers and the time allotted may also be limited by the number of registrants. Priority may be given to participants who have not yet addressed the Commission at previous meetings. All requests to register should include the name, address, telephone number, and business or professional affiliation of the interested party, and should indicate the area of interest or issue to be addressed.

Any person attending the meeting who has not registered to speak in advance of the meeting will be allowed to make a brief oral statement during the time set aside for public comment if time permits, and at the Chairperson's discretion. Individuals unable to attend the meeting, or any interested parties, may send written comments by mail, fax, or electronically to the staff office of the Commission for inclusion in the public record.

When mailing or faxing written comments, please provide your comments, if possible, as an electronic version on a diskette. Persons needing special assistance, such as sign language interpretation or other special accommodations, should contact the Commission staff at the address or telephone number listed above no later than September 27, 2001.

Dated: September 7, 2001.
LaVerne Y. Stringfield,
Director, Office of Federal Advisory Committee Policy.

[FR Doc. 01-23011 Filed 9-12-01; 8:45 am]

BILLING CODE 4140-01-M